ENVIRONMENTAL PROTECTION AGENCY

[EPA-HQ-OPP-2023-0154; FRL-10803-02-OCSPP]

FIFRA Scientific Advisory Panel (SAP); Examination of Microcosm/Mesocosm Studies for Evaluating the Effects of Atrazine on Aquatic Plant Communities; Notice of Availability, and Request for Comment

AGENCY: Environmental Protection Agency (EPA).

ACTION: Notice.

SUMMARY: The Environmental Protection Agency (EPA or “Agency”) is announcing the availability of and soliciting public comment on the “Examination of Microcosm/Mesocosm Studies for Evaluating the Effects of Atrazine on Aquatic Plant Communities,” that is being submitted to the Federal Insecticide, Fungicide, and Rodenticide Act (FIFRA) Scientific Advisory Panel (SAP) for peer review. The document is available for public review and comment. The FIFRA SAP will consider and review the document at a 3-day virtual public meeting that was previously announced in the Federal Register of March 24, 2023, The virtual public meeting will be held on August 22-24, 2023, via a webcast platform such as “Zoomgov.com” and audio teleconference.

DATES: The following is a chronological listing of the dates for the specific activities that are described in more detail under SUPPLEMENTARY INFORMATION.

August 2, 2023—Deadline for providing written comments.

August 8, 2023—Deadline for submitting a request for special accommodations to allow EPA time to process the request before the meeting.

August 18, 2023—Deadline for registering to be listed on the meeting agenda to make oral comments during the virtual meeting.

August 22-24, 2023—Scheduled virtual public meeting of the FIFRA SAP.

August 24, 2023—Deadline for those not making oral comments to register to receive the links to observe the meeting.

ADDRESSES: To comment: Submit written comments, identified by docket identification (ID) number EPA-HQ-OPP-2023-0154, through https://www.regulations.gov. Follow the online instructions for submitting comments. Do not electronically submit any information you consider to be Confidential Business Information (CBI) or other information whose disclosure is restricted by statute. Copyrighted material will not be posted without explicit permission from the copyright holder. Members of the public should also be aware that personal information included in any written comments may be posted on the internet at https://www.regulations.gov. Additional information on commenting or visiting the docket, along with more information about dockets generally, is available at https://www.epa.gov/dockets.

To register for the meeting: For information on how to register and access the virtual public meeting, please refer to the FIFRA SAP website at https://www.epa.gov/sap. EPA intends to announce registration instructions on the FIFRA SAP website by early July 2023. You may also subscribe to the following listserv for alerts regarding this and other FIFRA SAP-related activities at https://public.govdelivery.com/accounts/USAEPAOPPT/subscriber/new?topic_id=USAEPAOPPT_101.T.

To request special accommodations: For information on access or services for individuals with disabilities, and to request accommodation for a disability, please contact the Designated Federal Official (DFO) listed under FOR FURTHER INFORMATION CONTACT.

FOR FURTHER INFORMATION CONTACT: The DFO, Tamue Gibson, Mission Support Division, Office of Program Support, Office of Chemical Safety and Pollution Prevention, Environmental Protection Agency; telephone number: (202) 564-7642 or the main office number: (202) 564-8450; email address: gibson.tamue@epa.gov.

SUPPLEMENTARY INFORMATION:

I. General Information

A. What action is the Agency taking?

EPA is announcing the availability of and soliciting public comment on the document entitled “Examination of Microcosm/Mesocosm Studies for Evaluating the Effects of Atrazine on Aquatic Plant Communities,” which is available in the docket. EPA is also announcing a 3-day virtual public meeting on August 22-24, 2023, for the FIFRA SAP to consider and review the Agency's examination. This August 2023 meeting was previously announced in the Federal Register of March 24, 2023 (88 FR 17843 (FRL-10803-01-OCSPP)). EPA will be soliciting comments from the FIFRA SAP on the Agency's examination related to 11 microcosm and mesocosm studies evaluating the toxicity of atrazine to the exposed aquatic plant communities.

This document provides instructions for accessing the materials provided to the FIFRA SAP, submitting written comments, and registering to provide oral comments and attend the virtual meeting.

B. What is the Agency's authority for taking this action?

The FIFRA SAP is a federal advisory committee established in 1975 under FIFRA, 7 U.S.C. 136 et seq., to provide independent scientific advice to EPA on health and safety issues related to pesticides. The FIFRA SAP operates in accordance with the Federal Advisory Committee Act (FACA), 5 U.S.C. 10, and supports activities under FIFRA, the Federal Food, Drug, and Cosmetic Act (FFDCA) and other applicable statutes.

C. Does this action apply to me?

This action is directed to the public in general. This action may be of interest to persons who are or may be required to conduct testing of chemical substances under the FFDCA and FIFRA. Since other entities may also be interested, the Agency has not attempted to describe all the specific entities that may be affected by this action.

D. What should I consider as I submit my comments to EPA?

1. Submitting CBI.

Contact the DFO listed under FOR FURTHER INFORMATION CONTACT for instructions before submitted CBI or other sensitive information. Do not submit this information to EPA electronically (e.g., through https://www.regulations.gov or email). Clearly mark the part or all of the information that you claim to be CBI. For confidential information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments.

When preparing and submitting your comments, see the commenting tips at https://www.epa.gov/dockets/commenting-epa-dockets. See also the instructions in Unit III.

II. Background

A. What is the purpose of the FIFRA SAP?

The FIFRA SAP serves as one of the primary scientific peer review mechanisms of EPA's Office of Chemical Safety and Pollution Prevention (OCSPP) and is structured to provide independent scientific advice, information, and recommendations to the EPA Administrator on pesticides and pesticide-related issues as to the impact of regulatory actions on human health and the environment. The FIFRA SAP is composed of a permanent panel consisting of seven members who are appointed by the EPA Administrator from nominees provided by the National Institutes of Health and the National Science Foundation. FIFRA established a Science Review Board consisting of at least 60 scientists who are available to the FIFRA SAP on an ad hoc basis to assist in reviews conducted by the FIFRA SAP. As a scientific peer review mechanism, the FIFRA SAP provides comments, evaluations, and recommendations to improve the effectiveness and quality of analyses made by Agency scientists. Members of the FIFRA SAP are scientists who have sufficient professional qualifications, including training and experience, to provide expert advice and recommendations to the Agency.

B. Why did EPA develop this document?

EPA participated in several FIFRA SAP meetings related to atrazine's impact on the environment (e.g., 2003, 2007, 2009, 2012). In June 2012, the EPA presented the “Problem Formulation for the Environmental Fate and Ecological Risk Assessment for Atrazine” to the FIFRA SAP. That problem formulation provided an overview of atrazine use, exposure, and toxicity for assessing the ecological risk from atrazine use. One of the major considerations for the 2012 FIFRA SAP was the process that the EPA used to estimate an aquatic plant community-based concentration equivalent-level of concern (CE-LOC). The CE-LOC is a 60-day average concentration of atrazine that, when exceeded, presents a greater than 50 percent chance of negatively affecting the productivity, structure, and/or function of an aquatic plant community.

Cosm studies examining the toxicity of atrazine to aquatic plant communities are a significant part of the process to estimate the CE-LOC. Accordingly, from 2002 to 2016, the EPA considered over 70 cosm studies obtained from the open literature or submitted to the EPA. The 2012 FIFRA SAP identified 11 specific cosm studies from that dataset (Table 1, page 42-43 of the meeting report) as warranting further review (in terms of their inclusion/exclusion in the analysis or the effect/no effect determinations for specific measured endpoints) because of concerns about study design or performance flaws, as well as the interpretation of results.

In response to the 2012 FIFRA SAP, the EPA re-evaluated the 11 specific cosm studies identified by the FIFRA SAP and presented this re-evaluation in the 2013 “Addendum to the Problem Formulation for the Ecological Risk Assessment to be Conducted for the Registration Review of Atrazine” and the 2016 “Refined Ecological Risk Assessment for Atrazine.” In conducting this 2013 and 2016 re-evaluation, EPA considered comments from the 2012 FIFRA SAP and the public. This re-evaluation did not result in a change in the Agency's understanding or interpretation of those 11 studies. After the issuance of the 2016 ecological risk assessment and the 2022 “Proposed Revisions to the Atrazine Interim Registration Review Decision,” the EPA received additional public comments about the 11 studies, including a reminder that the Agency had stated in 2016 its intent to convene a FIFRA SAP meeting, along with renewed requests to convene a FIFRA SAP meeting, regarding the studies.

The EPA is returning to the FIFRA SAP to seek feedback on the outcome of the EPA's 2023 evaluation regarding the inclusion of the 11 studies, and if appropriate, effect/no effect determinations for specific measured endpoints from the studies that were identified by the 2012 FIFRA SAP.

III. Virtual Public Meeting of the FIFRA SAP

A. How can I access the documents submitted for review to the FIFRA SAP?

These documents, including the reevaluation document mentioned above and all background documents, related supporting materials, and draft charge questions provided to the FIFRA SAP are available in the docket at https://www.regulations.gov (docket ID No. EPA-HQ-OPP-2023-0154) and the FIFRA SAP website at https://www.epa.gov/sap. In addition, as additional background materials become available and are provided to the FIFRA SAP, EPA will include those additional background documents (e.g., FIFRA SAP members and consultants participating in the meeting and the meeting agenda) in the docket and accessible through the FIFRA SAP website.

After the public meeting, the FIFRA SAP will prepare meeting minutes and a final report document summarizing its recommendations to the EPA. This document will also be posted on in the docket and available at regulations.gov and the FIFRA SAP website.

B. How can I provide comments for the FIFRA SAP's consideration?

To ensure proper receipt of comments it is imperative that you identify docket ID No. EPA-HQ-OPP-2023-0154 in the subject line on the first page of your comments and follow the instructions in this unit.

1. Written comments.

The Agency encourages written comments for this meeting be submitted by the deadlines set in the DATES section of this document and following the instructions in this document.

2. Oral comments.

The Agency encourages each individual or group wishing to make brief oral comments to the FIFRA SAP during the peer review virtual public meeting to follow the registration instructions that will be announced on the FIFRA SAP website by early July 2023. Oral comments before the FIFRA SAP during the peer review virtual public meeting are limited to five minutes. In addition, each speaker should submit a written copy of their oral comments and any supporting materials (e.g., presentation slides) to the DFO prior to the meeting for distribution to the FIFRA SAP by the DFO.

C. How can I participate in the virtual public meeting?

The virtual public meeting will be held via a webcast platform such as “Zoomgov.com” and audio teleconference. You must register online to receive the webcast meeting link and audio teleconference information. Please follow the registration instructions that will be announced on the FIFRA SAP website.

Authority: 5 U.S.C. 10; 7 U.S.C. 136 et seq.; 21 U.S.C. 301 et seq.

Dated: June 27, 2023.
Michal Freedhoff,
Assistant Administrator, Office of Chemical Safety and Pollution Prevention.

[FR Doc. 2023-14065 Filed 6-30-23; 8:45 am]

BILLING CODE 6560-50-P